CORPORATION FOR NATIONAL AND COMMUNITY SERVICE

Agency Information Collection Activities; Submission to the Office of Management and Budget for Review and Approval; Comment Request; Application Package for AmeriCorps National Civilian Community Corps (NCCC) Member Experience Survey; Proposed Information Collection; Comment Request

AGENCY: Corporation for National and Community Service.

ACTION: Notice.

SUMMARY: The Corporation for National and Community Service (CNCS) has submitted a public information collection request (ICR) entitled AmeriCorps National Civilian Community Corps (NCCC) Member Experience Survey for review and approval in accordance with the Paperwork Reduction Act.

DATES: Comments may be submitted, identified by the title of the information collection activity, by October 25, 2019.

ADDRESSES: Direct written comments and/or suggestions regarding the items contained in this Notice to the Attention: CNCS Desk Officer, Office of Information and Regulatory Affairs, Office of Management and Budget, 725 17th Street NW, Washington, DC 20503 or by fax to (202) 395-5806. Provide written comments within 30 days of Notice publication.

FOR FURTHER INFORMATION CONTACT: Copies of this ICR, with applicable supporting documentation, may be obtained by calling the Corporation for National and Community Service, Jacob Sgambati, at 202-606-6930 or by email to jsgambati@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on July 11, 2019 at 84 FR 33063. This comment period ended September 9, 2019. No public comments were received from this Notice.

Title of Collection: AmeriCorps NCCC Member Experience Survey.

OMB Control Number: 3045-0181 Type of Review: Renewal.

Respondents/Affected Public: Current/prospective AmeriCorps NCCC Members.

Total Estimated Number of Annual Responses: 2,000.

Total Estimated Number of Annual Burden Hours: 173 Hours.

Abstract: The AmeriCorps NCCC Member Experience Survey is completed by AmeriCorps members who have been a part of an AmeriCorps NCCC team. Each year, AmeriCorps NCCC engages teams of members in projects in communities across the United States. Service projects, which typically last from six to eight weeks, address critical needs in natural and other disasters, infrastructure improvement, environmental stewardship and conservation, energy conservation, and urban and rural development. Members construct and rehabilitate low-income housing, respond to natural disasters, clean up streams, help communities develop emergency plans, and address other local needs.

CNCS seeks to renew the current information collection. The revisions are intended to be used in the same manner as the existing survey. The information collection will otherwise be used in the same manner as the existing application. CNCS also seeks to continue using the current application until the revised application is approved by OMB. The current application is due to expire on December 31, 2019.

Dated: September 19, 2019.
Jacob Sgambati,
Acting Deputy Director.

[FR Doc. 2019-20726 Filed 9-24-19; 8:45 am]

BILLING CODE 6050-28-P